DEPARTMENT OF COMMERCE

International Trade Administration

[C-570-072]

Sodium Gluconate, Gluconic Acid, and Derivative Products From the People's Republic of China: Final Results of the Expedited First Sunset Review of the Countervailing Duty Order

AGENCY: Enforcement and Compliance, International Trade Administration, Department of Commerce.

SUMMARY: The U.S. Department of Commerce (Commerce) finds that revocation of the countervailing duty (CVD) order on sodium gluconate, gluconic acid, and derivative products (sodium gluconate) from the People's Republic of China (China) would be likely to lead to continuation or recurrence of countervailable subsidies at the levels indicated in the “Final Results of Sunset Review” section of this notice.

DATES: Applicable February 2, 2024.

FOR FURTHER INFORMATION CONTACT: Stephanie Trejo, AD/CVD Operations, Office IV, Enforcement and Compliance, International Trade Administration, U.S. Department of Commerce, 1401 Constitution Avenue NW, Washington, DC 20230; telephone: (202) 482-4390.

SUPPLEMENTARY INFORMATION:

Background

On November 13, 2018, Commerce published the CVD order on sodium gluconate from China.¹ On October 2, 2023, Commerce published the notice of initiation of the first sunset review of the Order, pursuant to section 751(c) of the Tariff Act of 1930, as amended (the Act).² On October 12, 2023, Commerce received a timely notice of intent to participate from PMP Fermentation Products Inc. (the domestic interested party) within the 15-day deadline specified in 19 CFR 351.218(d)(1)(i).³ The domestic interested party claimed interested party status under section 771(9)(C) of the Act and 19 CFR 351.102(b)(29)(v) as producers of the domestic like product.

¹ See Sodium Gluconate, Gluconic Acid and Derivative Products from the People's Republic of China: Antidumping and Countervailing Duty Orders, 83 FR 56299 (November 13, 2018) (Order).

² See Initiation of Five-Year (Sunset) Reviews, 88 FR 67729 (October 2, 2023).

³ See Domestic Interested Parties' Letter, “Sodium Gluconate, Gluconic Acid, and Derivative Products from the People's Republic of China—Domestic Interested Parties' Notice of Intent to Participate,” dated October 12, 2023.

On November 1, 2023, Commerce received an adequate substantive response to the Initiation Notice from the domestic interested party within the 30-day deadline specified in 19 CFR 351.218(d)(3)(i).⁴ We received no substantive responses from any other interested parties, and no interested party requested a hearing. On November 17, 2023, Commerce notified the U.S. International Trade Commission that it did not receive an adequate substantive response from respondent interested parties, and that Commerce would conduct an expedited (120-day) sunset review of the Order,⁵ pursuant to section 751(c)(3)(B) of the Act and 19 CFR 351.218(e)(1)(ii)(B)-(C).

⁴ See Domestic Interested Parties' Letter, “Sodium Gluconate, Gluconic Acid, and Derivative Products from the People's Republic of China—Domestic Interested Parties' Substantive Response,” dated November 1, 2023.

⁵ See Commerce's Letter, “Sunset Reviews Initiated on October 2, 2023,” dated November 17, 2023.

Scope of the Order

The product covered by the Order is sodium gluconate from China. For a complete description of the scope of the Order, see the Issues and Decision Memorandum.⁶

⁶ See Memorandum, “Decision Memorandum for the Final Results of the First Expedited Sunset Review of the Antidumping Duty Orders on Sodium Gluconate, Gluconic Acid and Derivative Products from the People's Republic of China,” dated concurrently with, and hereby adopted by, this notice (Issues and Decision Memorandum).

Analysis of Comments Received

A complete discussion of all issues raised in this sunset review, including the likelihood of the continuation or recurrence of subsidization in the event of revocation of the Order and the countervailable subsidy rates likely to prevail if the Order were to be revoked, is provided in the accompanying Issues and Decision Memorandum. A list of the topics discussed in the Issues and Decision Memorandum is attached as an appendix to this notice. The Issues and Decision Memorandum is a public document and is on file electronically via Enforcement and Compliance's Antidumping and Countervailing Duty Centralized Electronic Service System (ACCESS), which is available to registered users at https://access.trade.gov. In addition, a complete version of the Issues and Decision Memorandum can be accessed directly at https://access.trade.gov/public/FRNotices/ListLayout.aspx.

Final Results of Sunset Review

Pursuant to sections 751(c)(1) and 752(b) of the Act, we determine that revocation of the Order would be likely to lead to continuation or recurrence of countervailable subsidies at the following net countervailable subsidy rates:

Company | Subsidy rate (percent ad valorem)
Qingdao Dongxiao Enterprise Co., Ltd | 194.67
Shandong Fuyang Biotechnology Co | 194.67
Shandong Kaison Biochemical Co Ltd | 194.67
Tongxiang Hongyu Chemical Co., Ltd | 194.67
All Others | 194.67

Administrative Protective Order

This notice serves as the only reminder to parties subject to an administrative protective order (APO) of their responsibility concerning the disposition of proprietary information disclosed under APO in accordance with 19 CFR 351.305(a), which continues to govern business proprietary information in this segment of the proceeding. Timely written notification of the destruction of APO materials or conversion to judicial protective order is hereby requested. Failure to comply with the regulations and terms of an APO is a violation which is subject to sanction.

Notification to Interested Parties

Commerce is issuing and publishing these final results and this notice in accordance with sections 751(c), 752(b), and 777(i)(1) of the Act and 19 CFR 351.218.

Dated: January 29, 2024.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely To Prevail

3. Nature of the Subsidies

VII. Final Results of Sunset Review

VIII. Recommendation

[FR Doc. 2024-02116 Filed 2-1-24; 8:45 am]

BILLING CODE 3510-DS-P